DEPARTMENT OF COMMERCE

Census Bureau

Proposed Information Collection; 2002 Census of Governments—Government Employment Phase

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 14, 2001.

ADDRESSES: Direct all written comments to Madeleine Clayton, Departmental Paperwork Clearance Officer, Department of Commerce, Room 6086, 14th and Constitution Avenue, NW, Washington, DC 20230 (or via the Internet at MClayton@doc.gov).

FOR FURTHER INFORMATION CONTACT: Requests for additional information or copies of the information collection instrument(s) and instructions should be directed to Ellen Thompson, Chief, Employment Branch, Governments Division, U.S. Census Bureau, Washington, DC 20233-6800 (301 457-1531).

SUPPLEMENTARY INFORMATION:

I. Abstract

Title 13, Section 161, of the United States Code requires the Secretary of Commerce to conduct a Census of Governments every 5 years. The 2002 Census of Governments includes 3 phases—Organization, Employment and Finance. For the Employment phase, these authorizations include, but are not limited to, collecting and disseminating data by function for full-time and part-time employees, payroll, and number of part-time hours worked.

The state and local government statistics produced cover national, state, local, and type-of-government aggregates on various functions with comparative detail for individual governments for the pay period that includes March 12. The employment survey provides the only comprehensive count of employees and payrolls in state and local governments. Government employees constitute approximately one-sixth of the entire U.S. workforce and their salaries are a major source of personal income.

The Census Bureau provides these employment data to the Bureau of Economic Analysis (BEA) for constructing the functional payrolls in the public sector Gross Domestic Product, payroll being the single largest component of current operations. Other government users include the Bureau of Labor Statistics, as a benchmark for its monthly employment programs, and the Department of Housing and Urban Development, to establish payroll guidelines for local public housing authorities.

The employment survey has increasingly been used as the base for reimbursable programs of other Federal agencies such as: (1) The government portion of the Medical Expenditure Panel Survey commissioned by the Agency for Healthcare Research and Quality to provide timely, comprehensive information about health care use and costs in the United States; and (2) the Bureau of Justice Statistics (BJS) Criminal Justice Expenditure and Employment Survey, which provides criminal justice expenditure and employment data on spending and personnel levels; and (3) the BJS Justice Assistance Data Survey, for sample verification and the existence of contracted services.

Findings are produced as data files in both electronic and printed formats. The program has made possible the dissemination of comprehensive and comparable governmental statistics since 1940.

The many users of the Census of Governments data include Federal agencies, state and local governments and related organizations, public interest groups, the academic community, and many business, market, and private research organizations.

II. Method of Collection

Each of the 90,000 state and local governments designated for the census will be sent an appropriate form or the data will be collected through a data sharing arrangement between Census and the state government.

We developed cooperative agreements with state and large local government officials to collect the data from their dependent agencies and report to us as one central respondent. These arrangements reduce the need for a mail canvass of approximately 2700 state agencies and 700 school systems. Currently we have central collection agreements with 36 states and four school district governments.

We are in the process of expanding the conversion of paper submissions into electronic formats, for individual units and central collection units.

III. Data

OMB Number: None.

Form Number: E-1, E-2, E-3, E-4, E-5, E-6, E-7, E-9.

Type of Review: Regular.

Affected Public: State governments and local governments, including counties, cities, townships, special district, and public school systems.

Estimated Number of Respondents: 77,273.

Estimated Average Time Per Response: 0.8884 hours.

Estimated Total Annual Burden Hours: 68,649.

Estimated Total Annual Cost: $1,171,838.

Note: Based upon the average hourly pay for full-time equivalent employment for the financial administration function within the 2000 annual survey of state and local government employment.

Respondent's Obligation: Voluntary.

Legal Authority: Title 13 United States Code, Section 161.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 10, 2001.
Madeleine Clayton,
Departmental Paperwork Clearance Officer, Office of the Chief Information Officer.

[FR Doc. 01-17636 Filed 7-13-01; 8:45 am]

BILLING CODE 3510-07-P